DEPARTMENT OF LABOR

Employment and Training Administration

[TA-W-65,326]

Horton Mfg. Co. LLC, Tallmadge, OH; Notice of Termination of Investigation

Pursuant to Section 221 of the Trade Act of 1974, as amended, an investigation was initiated on February 23, 2009 in response to a worker petition filed on behalf of workers of Horton Mfg. Co. LLC, Tallmadge, Ohio.

The petitioner has requested that the petition be withdrawn. Consequently, the investigation has been terminated.

Signed at Washington, DC, this 25th day of February 2009.
Richard Church,
Certifying Officer, Division of Trade Adjustment Assistance.

[FR Doc. E9-4552 Filed 3-3-09; 8:45 am]

BILLING CODE 4510-FN-P